DEPARTMENT OF AGRICULTURE

Submission for OMB Review; Comment Request

December 22, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Small-Scale Livestock Operations 2011 Study.

OMB Control Number: 0579-NEW.

Summary of Collection: Under the Animal Health Protection Act (7 U.S.C. 8301 et seq.), the Animal and Plant Health Inspection Service (APHIS) is authorized, among other things, to protect the health of our Nation's livestock and poultry populations by preventing the introduction and interstate spread of serious diseases and pests of livestock and for eradicating such diseases from the United States when feasible. In connection with this mission, APHIS operates the National Animal Health Monitoring System (NAHMS), which collects nationally representative, statistically valid, and scientifically sound data on the prevalence and economic importance of livestock diseases and associated risk factors. As part of an ongoing series of NAHMS studies on the U.S. livestock population, APHIS plans to conduct the Small-Scale Livestock Operations 2011 Study. A small-scale farm is defined by the USDA as a farm with annual sales less than $250,000.

Need and Use of the Information: The study is designed to collect information on operations with total annual sales between $10,000 and $250,000. The study questionnaire will be administered via mail with a telephone follow-up for those who do not respond. The information collected through the Small-Scale Livestock Operations study will be analyzed and organized into descriptive reports. The Small-Scale Livestock Operations study will collect data that will assist APHIS in its ability to support farmers in times of unusual economic distress or disaster, such as a foreign animal disease outbreak. The information collected will provide insight into how these small scale producers can best be served in an animal disease outbreak.

Description of Respondents: Business or other for-profit.

Number of Respondents: 16,000.

Frequency of Responses: Reporting: Annually.

Total Burden Hours: 4,128.

Ruth Brown,
Departmental Information Collection Clearance Officer.

[FR Doc. 2010-32627 Filed 12-27-10; 8:45 am]

BILLING CODE 3410-34-P